LEGAL SERVICES CORPORATION

Notice of Intent To Award—Grant Awards for the Delivery of Civil Legal Services to Eligible Low-Income Clients Beginning January 1, 2020

AGENCY: Legal Services Corporation.

ACTION: Announcement of the Legal Services Corporation's intent to make FY2020 Grant Awards.

SUMMARY: The Legal Services Corporation (LSC) hereby announces its intention to award grants to provide effective and efficient delivery of high-quality civil legal services to eligible low-income clients, starting January 1, 2020.

DATES: All comments and recommendations must be received on or before the close of business on December 4, 2019.

ADDRESSES: Grant Awards, Legal Services Corporation; 3333 K Street NW, Third Floor, Washington, DC 20007.

FOR FURTHER INFORMATION CONTACT: Judith Lee, Grants Program Analyst, Office of Program Performance, at (202) 295-1518 or leej@lsc.gov.

SUPPLEMENTARY INFORMATION: Under LSC's Notice Of Funds Available published on March 12, 2019 (84 FR 8904) and LSC's Grant Renewal application process beginning on May 3, 2019, LSC intends to award funds to organizations that provide civil legal services in the indicated service areas. Applicants for each service area are listed below. The grant award amounts below are estimates based on the FY2019 grant awards to each service area. The funding estimates may change based on the final FY2020 appropriation.

LSC will post all updates and changes to this notice at https://www.lsc.gov/grants-grantee-resources. Interested parties are asked to visit https://www.lsc.gov/grants-grantee-resources regularly for updates on the LSC grants process.

Name of applicant organization | State | Service area | Estimated annualized 2020 funding
Alaska Legal Services Corporation | AK | AK-1 | $871,350
Alaska Legal Services Corporation | AK | NAK-1 | 601,148
Legal Services Alabama | AL | AL-4 | 6,525,818
Legal Aid of Arkansas | AR | AR-6 | 1,478,027
Center for Arkansas Legal Services | AR | AR-7 | 2,350,621
American Samoa Legal Aid | AS | AS-1 | 265,156
DNA-Peoples Legal Services | AZ | AZ-2 | 468,529
Community Legal Services | AZ | AZ-3 | 5,463,795
Southern Arizona Legal Aid | AZ | AZ-5 | 2,310,084
Community Legal Services | AZ | MAZ | 251,318
DNA-Peoples Legal Services | AZ | NAZ-5 | 2,900,567
Southern Arizona Legal Aid | AZ | NAZ-6 | 708,525
California Indian Legal Services | CA | CA-1 | 14,237
Inland Counties Legal Services | CA | CA-12 | 5,000,021
Legal Aid Society of San Diego | CA | CA-14 | 2,975,476
Community Legal Aid SoCal | CA | CA-19 | 4,015,508
Greater Bakersfield Legal Assistance | CA | CA-2 | 1,266,090
Central California Legal Services | CA | CA-26 | 3,202,966
Legal Services of Northern California | CA | CA-27 | 4,128,982
Bay Area Legal Aid | CA | CA-28 | 4,268,687
Legal Aid Foundation of Los Angeles | CA | CA-29 | 6,104,238
Neighborhood Legal Services of Los Angeles County | CA | CA-30 | 4,201,601
California Rural Legal Assistance | CA | CA-31 | 4,750,556
California Rural Legal Assistance | CA | MCA | 3,086,473
California Indian Legal Services | CA | NCA-1 | 982,050
Colorado Legal Services | CO | CO-6 | 4,448,393
Colorado Legal Services | CO | MCO | 255,631
Colorado Legal Services | CO | NCO-1 | 106,750
Statewide Legal Services of Connecticut | CT | CT-1 | 2,716,257
Pine Tree Legal Assistance | CT | NCT-1 | 17,403
Neighborhood Legal Services Program of DC | DC | DC-1 | 916,281
Legal Services Corporation of Delaware | DE | DE-1 | 1,042,692
Maryland Legal Aid | DE | MDE | 15,841
Legal Services of North Florida | FL | FL-13 | 1,721,338
Three Rivers Legal Services | FL | FL-14 | 2,437,893
Community Legal Services of Mid-Florida | FL | FL-15 | 5,235,443
Bay Area Legal Services | FL | FL-16 | 3,836,668
Florida Rural Legal Services | FL | FL-17 | 4,072,439
Coast to Coast Legal Aid of South Florida | FL | FL-18 | 2,391,396
Legal Services of Greater Miami | FL | FL-5 | 3,731,958
Florida Rural Legal Services | FL | MFL | 659,448
Atlanta Legal Aid Society | GA | GA-1 | 3,743,270
Georgia Legal Services Program | GA | GA-2 | 8,580,422
Georgia Legal Services Program | GA | MGA | 327,681
Micronesian Legal Services | GU | GU-1 | 298,825
Legal Aid Society of Hawaii | HI | HI-1 | 1,263,345
Legal Aid Society of Hawaii | HI | NHI-1 | 254,624
Iowa Legal Aid | IA | IA-3 | 2,326,575
Iowa Legal Aid | IA | MIA | 396,217
Idaho Legal Aid Services | ID | ID-1 | 1,499,653
Idaho Legal Aid Services | ID | MID | 303,482
Idaho Legal Aid Services | ID | NID-1 | 72,216
Land of Lincoln Legal Assistance Foundation | IL | IL-3 | 2,870,858
Legal Aid Chicago | IL | IL-6 | 6,026,217
Prairie State Legal Services | IL | IL-7 | 3,882,914
Legal Aid Chicago | IL | MIL | 305,309
Indiana Legal Services | IN | IN-5 | 7,038,234
Indiana Legal Services | IN | MIN | 224,364
Kansas Legal Services | KS | KS-1 | 2,804,900
Legal Aid of the Bluegrass | KY | KY-10 | 1,610,521
Legal Aid Society | KY | KY-2 | 1,274,926
Appalachian Research and Defense Fund of Kentucky | KY | KY-5 | 1,783,602
Kentucky Legal Aid | KY | KY-9 | 1,311,205
Acadiana Legal Service Corporation | LA | LA-15 | 3,717,027
Southeast Louisiana Legal Services Corporation | LA | LA-13 | 3,595,109
Community Legal Aid | MA | MA-10 | 1,592,032
Volunteer Lawyers Project of the Boston Bar Assoc | MA | MA-11 | 2,204,486
South Coastal Counties Legal Services | MA | MA-12 | 925,556
Northeast Legal Aid | MA | MA-4 | 978,344
Legal Aid Bureau | MD | MD-1 | 4,517,677
Legal Aid Bureau | MD | MMD | 60,141
Pine Tree Legal Assistance | ME | ME-1 | 1,104,539
Pine Tree Legal Assistance | ME | MMX-1 | 309,844
Pine Tree Legal Assistance | ME | NME-1 | 71,645
Michigan Advocacy Program | MI | MI-12 | 1,797,936
Lakeshore Legal Aid | MI | MI-13 | 4,705,305
Legal Services of Eastern Michigan | MI | MI-14 | 1,712,356
Legal Aid of Western Michigan | MI | MI-15 | 2,029,464
Legal Services of Northern Michigan | MI | MI-9 | 852,171
Michigan Advocacy Program | MI | MMI | 387,617
Michigan Indian Legal Services | MI | NMI-1 | 182,981
Southern Minnesota Regional Legal Services | MN | MMN | 342,254
Legal Aid Service of Northeastern Minnesota | MN | MN-1 | 422,289
Legal Services of Northwest Minnesota Corporation | MN | MN-4 | 369,489
Southern Minnesota Regional Legal Services | MN | MN-5 | 1,576,495
Central Minnesota Legal Services | MN | MN-6 | 1,603,087
Anishinabe Legal Services | MN | NMN-1 | 265,642
Legal Aid of Western Missouri | MO | MMO | 236,989
Legal Aid of Western Missouri | MO | MO-3 | 1,974,831
Legal Services of Eastern Missouri | MO | MO-4 | 2,064,536
Mid-Missouri Legal Services Corporation | MO | MO-5 | 463,716
Legal Services of Southern Missouri | MO | MO-7 | 1,893,084
Micronesian Legal Services | MP | MP-1 | 1,498,617
Mississippi Center for Legal Services | MS | MS-10 | 2,839,558
North Mississippi Rural Legal Services | MS | MS-9 | 1,759,221
Mississippi Center for Legal Services | MS | NMS-1 | 92,398
Montana Legal Services Association | MT | MMT | 129,054
Montana Legal Services Association | MT | MT-1 | 936,063
Montana Legal Services Association | MT | NMT-1 | 176,990
Legal Aid of North Carolina | NC | MNC | 461,988
Legal Aid of North Carolina | NC | NC-5 | 11,802,933
Legal Aid of North Carolina | NC | NNC-1 | 242,593
Southern Minnesota Regional Legal Services | ND | MND | 145,187
Legal Services of North Dakota | ND | MND | 145,187
Legal Services of North Dakota | ND | ND-3 | 482,339
Legal Services of North Dakota | ND | NND-3 | 299,424
Legal Aid of Nebraska | NE | MNE | 271,334
Legal Aid of Nebraska | NE | NE-4 | 1,403,429
Legal Aid of Nebraska | NE | NNE-1 | 36,743
Legal Advice & Referral Center | NH | NH-1 | 803,572
South Jersey Legal Services | NJ | MNJ | 85,080
Legal Services of Northwest Jersey | NJ | NJ-15 | 491,774
Central Jersey Legal Services | NJ | NJ-17 | 1,338,877
Northeast New Jersey Legal Services Corporation | NJ | NJ-18 | 1,992,228
South Jersey Legal Services | NJ | NJ-20 | 2,425,172
Essex-Newark Legal Services Project | NJ | NJ-8 | 1,024,705
New Mexico Legal Aid | NM | MNM | 116,955
DNA-Peoples Legal Services | NM | NM-1 | 248,825
New Mexico Legal Aid | NM | NM-5 | 2,983,204
DNA-Peoples Legal Services | NM | NNM-2 | 25,254
New Mexico Legal Aid | NM | NNM-4 | 516,474
Nevada Legal Services | NV | NNV-1 | 147,808
Nevada Legal Services | NV | NV-1 | 3,201,980
Legal Aid Society of Mid-New York | NY | MNY | 297,340
Legal Services of the Hudson Valley | NY | NY-20 | 1,879,422
Legal Aid Society of Northeastern New York | NY | NY-21 | 1,395,529
Legal Aid Society of Mid-New York | NY | NY-22 | 1,790,944
Legal Assistance of Western New York | NY | NY-23 | 1,892,831
Neighborhood Legal Services | NY | NY-24 | 1,427,284
Nassau/Suffolk Law Services Committee | NY | NY-7 | 1,480,182
Legal Services NYC | NY | NY-9 | 12,528,874
Legal Aid of Western Ohio | OH | MOH | 274,582
Legal Aid Society of Greater Cincinnati | OH | OH-18 | 1,771,694
Community Legal Aid Services | OH | OH-20 | 2,057,869
The Legal Aid Society of Cleveland | OH | OH-21 | 2,504,027
Legal Aid of Western Ohio | OH | OH-23 | 2,934,227
Ohio State Legal Services | OH | OH-24 | 3,652,724
Legal Aid Services of Oklahoma | OK | MOK | 169,151
Oklahoma Indian Legal Services | OK | NOK-1 | 910,133
Legal Aid Services of Oklahoma | OK | OK-3 | 4,864,598
Legal Aid Services of Oregon | OR | MOR | 541,632
Legal Aid Services of Oregon | OR | NOR-1 | 205,195
Legal Aid Services of Oregon | OR | OR-6 | 3,942,866
Philadelphia Legal Assistance Center | PA | MPA | 217,368
Philadelphia Legal Assistance Center | PA | PA-1 | 3,242,685
Southwestern Pennsylvania Legal Services | PA | PA-11 | 429,938
Legal Aid of Southeastern Pennsylvania | PA | PA-23 | 1,381,890
North Penn Legal Services | PA | PA-24 | 2,062,365
MidPenn Legal Services | PA | PA-25 | 2,676,169
Northwestern Legal Services | PA | PA-26 | 755,956
Laurel Legal Services | PA | PA-5 | 692,809
Neighborhood Legal Services Association | PA | PA-8 | 1,450,732
Puerto Rico Legal Services | PR | MPR | 65,462
Puerto Rico Legal Services | PR | PR-1 | 11,959,727
Community Law Office | PR | PR-2 | 218,518
Rhode Island Legal Services | RI | RI-1 | 979,068
South Carolina Legal Services | SC | MSC | 157,389
South Carolina Legal Services | SC | SC-8 | 6,110,405
Dakota Plains Legal Services | SD | NSD-1 | 1,037,866
East River Legal Services | SD | SD-2 | 435,883
Dakota Plains Legal Services | SD | SD-4 | 473,562
Legal Aid Society of Middle TN and the Cumberlands | TN | TN-10 | 3,163,159
Memphis Area Legal Services | TN | TN-4 | 1,569,486
West Tennessee Legal Services | TN | TN-7 | 723,357
Legal Aid of East Tennessee | TN | TN-9 | 2,554,076
Texas RioGrande Legal Aid | TX | MSX-2 | 1,966,413
Texas RioGrande Legal Aid | TX | NTX-1 | 34,789
Lone Star Legal Aid | TX | TX-13 | 12,178,339
Legal Aid of NorthWest Texas | TX | TX-14 | 9,254,777
Texas RioGrande Legal Aid | TX | TX-15 | 11,639,168
Utah Legal Services | UT | MUT | 94,085
Utah Legal Services | UT | NUT-1 | 91,447
Utah Legal Services | UT | UT-1 | 2,377,963
Central Virginia Legal Aid Society | VA | MVA | 189,860
Southwest Virginia Legal Aid Society | VA | VA-15 | 877,436
Legal Aid Society of Eastern Virginia | VA | VA-16 | 1,589,575
Virginia Legal Aid Society | VA | VA-17 | 817,682
Central Virginia Legal Aid Society | VA | VA-18 | 1,326,608
Blue Ridge Legal Services | VA | VA-19 | 871,591
Legal Services of Northern Virginia | VA | VA-20 | 1,616,813
Legal Services of the Virgin Islands | VI | VI-1 | 196,919
Legal Services Law Line of Vermont | VT | VT-1 | 527,603
Northwest Justice Project | WA | MWA | 716,196
Northwest Justice Project | WA | NWA-1 | 316,647
Northwest Justice Project | WA | WA-1 | 5,970,518
Legal Action of Wisconsin | WI | MWI | 405,064
Wisconsin Judicare | WI | NWI-1 | 172,427
Wisconsin Judicare | WI | WI-2 | 1,021,819
Legal Action of Wisconsin | WI | WI-5 | 3,904,457
Legal Aid of West Virginia | WV | WV-5 | 2,803,358
Legal Aid of Wyoming | WY | NWY-1 | 192,082
Legal Aid of Wyoming | WY | WY-4 | 533,955

These grants will be awarded under the authority conferred on LSC by section 1006(a)(1) of the Legal Services Corporation Act, 42 U.S.C. 2996e(a)(l). Grant awards are made to ensure civil legal services are provided in every service area, although no listed organization is guaranteed a grant award. Grants will become effective, and grant funds will be distributed, on or about January 1, 2020.

LSC issues this notice pursuant to 42 U.S.C. 2996f(f). Comments and recommendations concerning potential grantees are invited and should be delivered to LSC within 30 days from the date of publication of this notice.

Dated: October 30, 2019.
Stefanie Davis,
Assistant General Counsel.

[FR Doc. 2019-24039 Filed 11-1-19; 8:45 am]

BILLING CODE 7050-01-P